DEPARTMENT OF VETERANS AFFAIRS

[OMB Control No. 2900-0353]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments for information needed to determine the number of lessons completed by a student and serviced by the correspondence school.

DATES: Written comments and recommendations on the proposed collection of information should be received on or before February 3, 2003.

ADDRESSES: Submit written comments on the collection of information to Nancy J. Kessinger, Veterans Benefits Administration (20S52), Department of Veterans Affairs, 810 Vermont Avenue, NW., Washington, DC 20420 or e-mail: irmnkess@vba.va.gov. Please refer to “OMB Control No. 2900-0353” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Certification of Lessons Completed, VA Forms 22-6553b and 22-6553b-1.

OMB Control Number: 2900-0353.

Type of Review: Extension of a currently approved collection.

Abstract: VA Forms 22-6553b and 22-6553b-1 are used to determine the number of lessons completed by a student and serviced by the correspondence school, and if necessary to determine the date of completion or termination of correspondence training. VA pays education benefits based on the information furnished on the form. Benefits are not payable when training is interrupted, discontinued or completed. Without this information, VA would be unable to determine the proper payment or the student's training status.

Affected Public: Individuals or households, Business or other for-profit.

Estimated Annual Burden: 1,782 hours.

Estimated Average Burden Per Respondent: 10 minutes.

Frequency of Response: Quarterly.

Estimated Number of Respondents: 3,564.

Number of Responses Annually: 10,692

Dated: November 22, 2002.
By direction of the Secretary.
Ernesto Castro,
Director, Records Management Service.

[FR Doc. 02-30588 Filed 12-2-02; 8:45 am]

BILLING CODE 8320-01-P